DEPARTMENT OF THE INTERIOR

National Park Service

Notice of Inventory Completion: Museum of Indian Arts & Culture/Laboratory of Anthropology, Museum of New Mexico, Santa Fe, NM and Maxwell Museum of Anthropology, University of New Mexico, Albuquerque, NM

AGENCY: National Park Service, Interior.

ACTION: Notice.

Notice is here given in accordance with the Native American Graves Protection and Repatriation Act (NAGPRA), 25 U.S.C. 3003, of the completion of an inventory of human remains and associated funerary objects in the control of the Museum of Indian Arts & Culture/Laboratory of Anthropology, Museum of New Mexico, Santa Fe, NM. Some of the human remains are housed at the Maxwell Museum of Anthropology, University of New Mexico, Albuquerque, NM, and some of the human remains and all the associated funerary objects are housed at the Museum of Indian Arts & Culture/Laboratory of Anthropology, Museum of New Mexico, Santa Fe, NM. The human remains were removed from Sandoval County, NM.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Maxwell Museum of Anthropology and the New Mexico Office of Archaeological Studies professional staff in consultation with representatives of the Pueblo of Jemez, New Mexico.

Between 1928-1932, human remains representing a minimum of 21 individuals were removed from the Unshagi site (LA 123), Sandoval County, NM, during excavations by joint University of New Mexico/School of American Research field schools. The human remains have been on loan to the Maxwell Museum of Anthropology from the Museum of New Mexico since 1973 (MMA#73.138.1 to 3; #73.138.5 to 19; #73.138.21 to 23). No known individuals were identified. The one associated funerary object is a Jemez black-on-white bowl.

In 1931, human remains representing a minimum of one individual were removed from the Nonishagi site, (LA 541) Sandoval County, NM, during excavations by joint University of New Mexico/School of American Research field schools. The human remains have been on loan to the Maxwell Museum of Anthropology from the Museum of New Mexico since 1975 (ARC#7322, MMA#75.223.1). No known individual was identified. No associated funerary objects are present.

Sometime during the 1920s or 1930s, human remains were removed from the Guisewa site (LA 679), Sandoval County, NM, during excavations by either the School of American Research with the Laboratory of Anthropology or University of New Mexico field schools. Human remains representing a minimum of one individual have been on loan to the Maxwell Museum of Anthropology from the Museum of New Mexico since 1975 (MIAC #31788/18, MMA#75.350.1). In addition, fragmentary human remains representing a minimum of 50 individuals were found in bags of faunal remains stored at the Museum of Indian Arts & Culture. The fragmentary human remains have been identified and inventoried, and do not appear to be associated with the individual on loan to the Maxwell Museum of Anthropology. The fragmentary remains were originally inventoried as ARC# 821, 819, 817, and 26915. In 2008, they were removed from these numbered containers and all human remains were combined as ARC #51993. No known individuals were identified. No associated funerary objects are present.

In 1965, human remains were removed from the Guisewa site (LA 679), Sandoval County, NM, during excavations by Museum of New Mexico staff prior to the installation of a new water line. Human remains representing a minimum of four individuals have been on loan to the Maxwell Museum of Anthropology from the Museum of New Mexico since 1975 (MMA#75.121.1, 2, 5 & 6). In addition, fragmentary human remains representing a minimum of 13 individuals were found in bags of faunal remains stored at the Museum of Indian Arts & Culture. The fragmentary human remains have been identified and inventoried, and do not appear to be associated with the individuals on loan to the Maxwell Museum of Anthropology. The fragmentary human remains were originally inventoried as ARC# 47 and 88. In 2008, they were removed from these numbered containers and additional previously unreported containers, and all of the human remains were combined as ARC #51992. No known individuals were identified. The three associated funerary objects are one large, crushed Jemez black-on-white bowl; one fragment of a small culinary bowl; and one small, crushed Jemez black-on-white bowl.

In 1977-1978, fragmentary human remains representing a minimum of 48 individuals were removed from the Guisewa site (LA 679), Sandoval County, NM, during excavations by Museum of New Mexico staff prior to conducting stabilization work on the ruins of a church and accompanying structures at the site. These elements of human bone were found in bags of faunal remains stored at the Museum of Indian Arts & Culture. The human remains were originally inventoried as ARC# 26910, 29868, 29866, 26919, 26928, 26926, 26925, 26870, 26918, 26950, and 26952. In 2008, they were removed from these numbered containers and additional previously unreported containers, and all of the human remains were combined as ARC #51994. No known individuals were identified. No associated funerary objects are present.

In 1983, fragmentary human remains representing a minimum of three individuals were removed from the Guisewa site (LA 679), Sandoval County, NM, during an excavation for trenches around the foundation for the Via Coeli Monastery. This portion of the Guisewa site is owned by the Roman Catholic Church, and was occupied by the religious order of the Servants of the Paraclete during the 1980s. In the late 1980s, the fragmentary remains were given to the Museum of Indian Arts & Culture by the Servants of the Paraclete. In 2008, the human remains were found in the collection (ARC#51995). No known individuals were identified. No associated funerary objects are present.

At an unknown date, human remains representing a minimum of one individual were removed from the Jemez Cave site (LA 6164), Sandoval County, NM, during unpermitted excavations. In 1934, the human remains were offered for sale to participants of a joint University of New Mexico/School of American Research field school, and the field school staff took possession. In 1990, the Museum of New Mexico loaned the human remains to the Maxwell Museum of Anthropology (MMA#90.5.8). No known individual was identified. The four associated funerary objects are one small feather blanket, one thin deer skin robe, one thick deer skin robe, and one large feather blanket.

Based on burial location, material culture, and associated architecture, the human remains have been identified as Native American. The Native American human remains are identified as ancestral Jemez because they came from Puebloan sites of the upper Jemez River drainage. Populations that inhabited these sites are linked by Native oral tradition, Euro-American records, and archeological evidence to members of the present-day Pueblo of Jemez, New Mexico.

Officials of the Museum of New Mexico have determined that, pursuant to 25 U.S.C. 3001 (9-10), the human remains described above represent the physical remains of at least 142 individuals of Native American ancestry. Officials of the Museum of New Mexico have also determined that, pursuant to 25 U.S.C. 3001 (3)(A), the eight objects described above are reasonably believed to have been placed with or near individual human remains at the time of death or later as part of the death rite or ceremony. Lastly, officials of the Museum of New Mexico have determined that pursuant to 25 U.S.C. 3001 (2), there is a relationship of shared group identity that can be reasonably traced between the Native American human remains and associated funerary objects and the Pueblo of Jemez, New Mexico.

Representatives of any other Indian tribe that believes itself to be culturally affiliated with the human remains and associated funerary objects should contact Dr. Shelby Tisdale, Director, Museum of Indian Arts & Culture/Laboratory of Anthropology, P.O. Box 2087, Santa Fe, NM 87504, telephone (505) 476-1251, before January 29, 2009. Repatriation of the human remains and associated funerary objects to the Pueblo of Jemez, New Mexico may proceed after that date if no additional claimants come forward.

The Museum of Indian Arts & Culture is responsible for notifying the Pueblo of Jemez, New Mexico that this notice has been published.

Dated: December 10, 2008
Sherry Hutt,
Manager, National NAGPRA Program.

[FR Doc. E8-30892 Filed 12-29-08; 8:45 am]

BILLING CODE 4312-50-S